ENVIRONMENTAL PROTECTION AGENCY

[EPA-HQ-OPP-2012-0548; FRL-9357-3]

Notice of Receipt of Requests for Amendments To Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: Unless the Agency receives a written withdrawal request on or before September 28, 2012, the deletions are effective September 28, 2012, because the registrants requested a waiver of the 180-day comment period. Users of these products who desire continued use on crops or sites being deleted should contact the applicable registrant on or before September 28, 2012.

ADDRESSES: Submit your comments, identified by docket identification (ID) number EPA-HQ-OPP-2012-0548 by one of the following methods:

• Mail: OPP Docket, Environmental Protection Agency Docket Center (EPA/DC), Mail Code: 28221T, 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Christopher Green,, Office of Pesticide Programs, Environmental Protection Agency, 1200 Pennsylvania Ave. NW., Washington, DC 20460-0001; telephone number: (703) 347-0367; email address: green.christopher@epa.gov.

SUPPLEMENTARY INFORMATION:

I. General Information

A. Does this action apply to me?

This action is directed to the public in general. Although, this action may be of particular interest to persons who produce or use pesticides, the Agency has not attempted to describe all the specific entities that may be affected by this action. If you have any questions regarding the information in this notice, consult the person listed under FOR FURTHER INFORMATION CONTACT.

B. How can I get copies of this document and other related information?

The docket for this action, identified by docket identification (ID) number EPA-HQ-OPP-2012-0548, is available either electronically through http://www.regulations.gov or in hard copy at the OPP Docket in the Environmental Protection Agency Docket Center (EPA/DC), located in EPA West, Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces receipt by the Agency of applications from registrants to delete uses in certain pesticide registrations. These registrations are listed in Table 1 of this unit by registration number, product name, active ingredient, and specific uses deleted. The requests listed in the following Table 1 have a 30-day comment period because the registrant requested a waiver of the 180-day comment period.

Table 1—Requests for Amendments To Delete Uses in Certain Pesticide Registrations
EPA Registration No. | Product name | Active ingredient | Delete from label
228-652 | Nufarm T-Methyl 4.5 F Fungicide | Thiophanate-methyl | Directions for Canola use.
499-475 | Pro-Control Pyrethrin 6EC | Pyrethrins and Piperonyl Butoxide | Use on Pre-Harvest Tree Nuts, Cereal Grains and Pasture Grasses.
2724-761 | D-Limonene, Technical | Limonene | Outdoor uses.
42750-102 | Tebuconazole 45 WP | Tebuconazole | Tree Nuts & Pome Fruit uses.
50534-7 | Technical Chlorothalonil Fungicide | Chlorothalonil | Additive for aqueous paints, stains, coatings, adhesives, caulks, sealants, grouts, joint compounds, and wood preservative stains.
50534-229 | Chlorothalonil FB | Chlorothalonil | Additive for aqueous paints, stains, coatings, adhesives, caulks, sealants, grouts, joint compounds, and wood preservative stains.

Users of these products who desire continued use on crops or sites being deleted should contact the applicable registrant before September 28, 2012 to discuss withdrawal of the application for amendment. This 30-day period will also permit interested members of the public to intercede with registrants prior to the Agency's approval of the deletion.

Table 2 of this unit includes the names and addresses of record for all registrants of the products listed in Table 1 of this unit, in sequence by EPA company number.

Table 2—Registrants Requesting Amendments To Delete Uses in Certain Pesticide Registrations
EPA Company No. | Company name and address
228 | Nufarm Americas Inc., 4020 Aerial Center Pkwy, Ste. 101, Morrisville, NC 27560.
499 | Whitmire Micro-Gen Research Laboratories, Inc., 3568 Tree Court Industrial Blvd., St. Louis, MO 63122.
2724 | Wellmark International, 1501 E. Woodfield Rd., Suite 200 West, Schaumburg, IL 60173.
42750 | Albaugh, Inc., 1525 NE 36th Street, Ankeny, IA 50021.
50534 | GB Biosciences Corporation, P.O. Box 18300, Greensboro, NC 27419-8300.

III. What is the Agency's authority for taking this action?

Section 6(f)(1) of FIFRA provides that a registrant of a pesticide product may at any time request that any of its pesticide registrations be amended to delete one or more uses. FIFRA further provides that, before acting on the request, EPA must publish a notice of receipt of any such request in the Federal Register. Thereafter, the Administrator may approve such a request.

IV. Procedures for Withdrawal of Request

Registrants who choose to withdraw a request for use deletion must submit the withdrawal in writing to Christopher Green using the methods in ADDRESSES. The Agency will consider written withdrawal requests postmarked no later than September 28, 2012.

V. Provisions for Disposition of Existing Stocks

The Agency has authorized the registrants to sell or distribute product under the previously approved labeling for a period of 18 months after approval of the revision, unless other restrictions have been imposed, as in special review actions.

List of Subjects

Environmental protection, Pesticides and pests.

Dated: August 17, 2012.
Oscar Morales,
Director, Information Technology and Resources Management Division, Office of Pesticide Programs.

[FR Doc. 2012-21357 Filed 8-28-12; 8:45 am]

BILLING CODE 6560-50-P